NATIONAL SCIENCE FOUNDATION

Advisory Panel for Biological Infrastructure; Notice of Meeting

In accordance with the federal Advisory Committee Act (Pub. L. 92-463, as amended), the National Science Foundation announces the following meeting;

Name: Advisory Panel for Biological Infrastructure (#1215).

Date/Time: Wednesday, Thursday and Friday, March 28, 29 and 30th 2001, 8 a.m.-6 p.m. and Wednesday, Thursday and Friday, April 4, 5, and 6 2001, 8 a.m.-6 p.m.

Place: 4121 Wilson Blvd., Stafford II Room 525, Arlington, VA.

Type of Meeting: Closed.

Contact Person: Judith Skog and Lawrence Fritz, Program Director Biological Instrumentation and Major Research Instrumentation, National Science Foundation, Rm. 615, 4201 Wilson Boulevard, Arlington, VA 22230. Telephone (703) 292-8470.

Purpose of Meeting: To provide advice and recommendations concerning proposals submitted to NSF for financial support.

Agenda: To review and evaluate proposal for acquisition of Biological Instrumentation and Major Research Instrumentation (MRI) Program as part of the selection process for awards.

Reason for Closing: The proposals being reviewed include information of a proprietary or confidential nature, including technical information; financial data, such as salaries; and personal information concerning individuals associated with the proposals. These matters are exempt under (4) and (6) of 5 U.S.C. 552b(c), of the Government in the Sunshine Act.

Dated: March 6, 2001.
Susanne Bolton,
Committee Management Officer.

[FR Doc. 01-5874 Filed 3-8-01; 8:45 am]

BILLING CODE 7555-01-M